DEPARTMENT OF DEFENSE

GENERAL SERVICES ADMINISTRATION

NATIONAL AERONAUTICS AND SPACE ADMINISTRATION

48 CFR Parts 2, 32, and 52

[FAC 2001-14; FAR Case 2000-308; Item III]

RIN 9000-AJ17

Federal Acquisition Regulation; Prompt Payment Under Cost-Reimbursement Contracts for Services

Correction

In rule document 03-12303 beginning on page 28092 in the issue of Thursday, May 22, 2003, make the following correction:

On page 28092, in the second column, under the heading DATES, “May 23, 2003” should read, “May 22, 2003”.

[FR Doc. C3-12303 Filed 6-2-03; 8:45 am]

BILLING CODE 1505-01-D

SECURITIES AND EXCHANGE COMMISSION

[Release No. 34-47871; File No. S7-966]

Program for Allocation of Regulatory Responsibilities Pursuant to Rule 17d-2; Notice of Filing of the Plan for Allocation of Regulatory Responsibilities Between the National Association of Securities Dealers, Inc. and the International Securities Exchange, Inc.

May 14, 2003.

Correction

In notice document 03-12730 beginning on page 27869, in the issue of Wednesday, May 21, 2003, make the following correction:

On page 27869, in the third column, the docket number is corrected to read as set forth above.

[FR Doc. C3-12730 Filed 6-2-03; 8:45 am]

BILLING CODE 1505-01-D

DEPARTMENT OF TRANSPORTATION

Federal Aviation Administration

14 CFR Part 71

[Docket No. FAA-2003-15076; Airspace Docket No. 03-ACE-44]

Modification of Class E Airspace; Kaiser, MO

Correction

In rule document 03-13046 beginning on page 28122 in the issue of Friday, May 23, 2003, make the following correction:

§71.1 [Corrected]

On page 28123, in the second column, in §71.1, under the heading ACE MO E5 Kaiser/Lake Ozark, MO in the 17th line, “7.8” should read “7.9”.

[FR Doc. C3-13046 Filed 6-2-03; 8:45 am]

BILLING CODE 1505-01-D

DEPARTMENT OF TRANSPORTATION

Federal Aviation Administration

14 CFR Part 71

[Docket No. FAA-2003-15080; Airspace Docket No. 03-ACE-48]

Modification of Class E Airspace; Sibley, IA

Correction

In rule document 03-13040 beginning on page 28126 in the issue of Friday, May 23, 2003, make the following correction:

§71.1 [Corrected]

On page 28127, in the first column in §71.1, under the heading ACE IA E5 Sibley IA, in the second line, “long. 94°” should read “long. 95°”.

[FR Doc. C3-13040 Filed 6-2-03; 8:45 am]

BILLING CODE 1505-01-D